DEPARTMENT OF VETERANS AFFAIRS

[OMB Control No. 2900-0836]

Agency Information Collection Activity Under OMB Review: Agency Information Collection Activity: NVSBE Post-Engagement Survey

AGENCY: Office of Small and Disadvantaged Business Utilization, Department of Veterans Affairs.

ACTION: Notice.

SUMMARY: In compliance with the Paperwork Reduction Act (PRA) of 1995, this notice announces that the Office of Small and Disadvantaged Business Utilization, Department of Veterans Affairs, will submit the collection of information abstracted below to the Office of Management and Budget (OMB) for review and comment. The PRA submission describes the nature of the information collection and its expected cost and burden and it includes the actual data collection instrument.

DATES: Comments must be submitted on or before April 18, 2018.

ADDRESSES: Submit written comments on the collection of information through www.Regulations.gov, or to Office of Information and Regulatory Affairs, Office of Management and Budget, Attn: VA Desk Officer; 725 17th St. NW, Washington, DC 20503 or sent through electronic mail to oira_submission@omb.eop.gov. Please refer to “OMB Control No. 2900-0836” in any correspondence.

FOR FURTHER INFORMATION CONTACT: Cynthia Harvey-Pryor, Enterprise Records Service (005R1B), Department of Veterans Affairs, 810 Vermont Avenue NW, Washington, DC 20420, (202) 461-5870 or email cynthia.harvey-pryor@va.gov. Please refer to “OMB Control No. 2900-0836” in any correspondence.

SUPPLEMENTARY INFORMATION:

Authority: Public Law 104-13; 44 U.S.C. 3501-3521.

Title: NVSBE Post-Engagement Survey.

OMB Control Number: 2900-0836.

Type of Review: Reinstatement of a previously approved collection.

Abstract: The Office of Small and Disadvantaged Business Utilization (OSDBU) needs to measure the return on investment (ROI) the National Veteran Small Business Engagement provides to VA and its attendees. OSDBU intends to measure the efficiency of this event, learn how to fulfill its stakeholder's needs, and share this information with potential attendees.

An agency may not conduct or sponsor, and a person is not required to respond to a collection of information unless it displays a currently valid OMB control number. The Federal Register Notice with a 60-day comment period soliciting comments on this collection of information was published at 82 FR 163, on August 24, 2017, page 40231.

Affected Public: NVSBE attendees, to include federal employees, small business owners, commercial corporations, and prime contractors.

Estimated Annual Burden: 175 hours.

Estimated Average Burden per Respondent: 10.5 minutes.

Frequency of Response: Once per year.

Estimated Number of Respondents: 1,000.

By direction of the Secretary.
Cynthia Harvey-Pryor,
Department Clearance Officer, Office of Quality, Privacy and Risk, Department of Veterans Affairs.

[FR Doc. 2018-05444 Filed 3-16-18; 8:45 am]

BILLING CODE 8320-01-P